NUCLEAR REGULATORY COMMISSION

Advisory Committee on the Medical Uses of Isotopes; Meeting Notice

AGENCY: U.S. Nuclear Regulatory Commission.

ACTION: Notice of meeting.

SUMMARY: The U.S. Nuclear Regulatory Commission will convene a public teleconference meeting of the Advisory Committee on the Medical Uses of Isotopes (ACMUI) on August 15, 2007. The topic of the discussion will be “Increased Controls: Fingerprinting Orders.”

Purpose: Discuss information related to increased controls and fingerprinting orders as this subject relates to medical licensees.

DATES: Wednesday, August 15, 2007, from 1 p.m. to 2 p.m Eastern Daylight Time.

Public Participation: Any member of the public who wishes to participate in the teleconference discussion may contact Ashley M. Tull using the contact information below.

Contact: Ashley M. Tull by telephone (301) 415-5294; e-mail amt1@nrc.gov; or mail Office of Federal and State Materials, U.S. Nuclear Regulatory Commission, Mail Stop T8-E24, Washington, DC 20555-0001.

Conduct of the Meeting

Leon S. Malmud, M.D., will chair the meeting. Dr. Malmud will conduct the meeting in a manner that will facilitate the orderly conduct of business. The following procedures apply to public participation in the meeting:

1. This meeting will be held in accordance with the Atomic Energy Act of 1954, as amended (primarily Section 161a); the Federal Advisory Committee Act (5 U.S.C. App); and the Commission's regulations in Title 10, U.S. Code of Federal Regulations, Part 7.

2 . Persons who wish to provide a statement should submit an e-mail or mail a reproducible copy to Ms. Tull at the contact information provided. Submittals must be e-mailed or postmarked by August 13, 2007, and must pertain to the topics on the agenda for the meeting.

3 . Questions and comments from members of the public will be permitted during the meeting, at the discretion of the Chairman.

4 . The transcript and written comments will be available on NRC's Web site (http://www.nrc.gov) and at the NRC Public Document Room, 11555 Rockville Pike, Rockville, MD 20852-2738, telephone (800) 397-4209, on or about November 15, 2007. Minutes of the meeting will be available on or about September 17, 2007.

Dated at Rockville, Maryland, this 26th day of July 2007.
For the Nuclear Regulatory Commission.
Andrew L. Bates,
Advisory Committee Management Officer.

[FR Doc. E7-14884 Filed 7-31-07; 8:45 am]

BILLING CODE 7590-01-P